MILLENNIUM CHALLENGE CORPORATION

[MCC FR 06-13]

Notice of Entering Into a Compact With the Government of the Republic of Benin; Correction

AGENCY: Millennium Challenge Corporation.

ACTION: Notice; correction.

SUMMARY: In accordance with Section 610(b)(2) of the Millennium Challenge Act of 2003 (Pub. L. 108-199, Division D), the Millennium Challenge Corporation (MCC) published a summary and the complete text of the Millennium Challenge Compact between the United States of America, acting through the Millennium Challenge Corporation, and the Government of the Republic of Benin, dated February 22, 2006 (the “Compact”). The complete text of the Compact contained incorrect figures in Exhibit A to Annex II.

FOR FURTHER INFORMATION CONTACT: Maura Griffin, 202-521-3867.

Correction

In the Federal Register of March 13, 2006, in FR Doc. 06-2252, on pages 12979-12980, replace “Exhibit A.—Multi-Year Financial Plan Summary” with the following:

Exhibit A.—Multi-Year Financial Plan Summary
Project | Year 1 | Year 2 | Year 3 | Year 4 | Year 5 | Total
1. Access to Land
(a) Policy Activity | 520,000 | 260,000 | 520,000 | 0 | 0 | 1,300,000
(b) Registration Activity | 3,310,000 | 6,550,000 | 4,605,000 | 4,375,000 | 4,320,000 | 23,160,000
(c) Services and Information Activity ¹ | 510,000 | 3,350,000 | 3,205,000 | 2,775,000 | 620,000 | 10,460,000
(d) IEC Activity | 100,000 | 150,000 | 100,000 | 100,000 | 50,000 | 500,000
(e) Support Strategy Activity | 120,000 | 120,000 | 120,000 | 120,000 | 120,000 | 600,000
Sub-Total | 4,560,000 | 10,430,000 | 8,550,000 | 7,370,000 | 5,110,000 | 36,020,000
2. Access to Financial Services
(a) Capacity Building Activity | 1,770,000 | 3,570,000 | 3,870,000 | 3,570,000 | 270,000 | 13,050,000
(b) Financial Enabling Environment Activity | 1,380,000 | 1,850,000 | 1,540,000 | 1,140,000 | 690,000 | 6,600,000
Sub-Total | 3,150,000 | 5,420,000 | 5,410,000 | 4,710,000 | 960,000 | 19,650,000
3. Access to Justice
(a) Arbitration Center (CAMeC) Activity | 400,000 | 160,000 | 140,000 | 180,000 | 0 | 880,000
(b) Business Registration Activity | 470,000 | 830,000 | 330,000 | 200,000 | 0 | 1,830,000
(c) Courts Activity ², ³ | 2,960,000 | 6,860,000 | 8,590,000 | 6,590,000 | 6,560,000 | 31,560,000
Sub-Total | 3,830,000 | 7,850,000 | 9,060,000 | 6,970,000 | 6,560,000 | 34,270,000
4. Access to Markets
(a) Studies Activity | 5,993,000 | 2,101,000 | 0 | 0 | 0 | 8,094,000
(b) Port Institutional Activity | 3,251,000 | 4,876,000 | 1,196,000 | 980,000 | 1,016,000 | 11,319,000
(c) Port Security and Landside Improvements Activity ⁴ | 200,000 | 23,154,000 | 42,158,000 | 8,151,000 | 200,000 | 73,863,000
(d) Waterside Improvements Activity ⁵ | 0 | 0 | 22,939,000 | 53,232,000 | 0 | 76,171,000
Sub-Total | 9,444,000 | 30,131,000 | 66,293,000 | 62,363,000 | 1,216,000 | 169,447,000
Monitoring and Evaluation | 3,190,000 | 1,690,000 | 1,240,000 | 1,240,000 | 1,420,000 | 8,780,000
Sub-Total | 3,190,000 | 1,690,000 | 1,240,000 | 1,240,000 | 1,420,000 | 8,780,000
Program Administration and Control
(a) Program Administration ⁶ | 3,395,000 | 2,795,000 | 2,933,000 | 2,919,000 | 3,015,000 | 15,057,000
(b) Fiscal and Procurement Agent | 3,398,688 | 3,398,688 | 3,398,688 | 3,398,688 | 3,398,688 | 16,993,440
(c) Audits | 1,416,120 | 1,416,120 | 1,416,120 | 1,416,120 | 1,416,120 | 7,080,600
Sub-Total ⁷ | 8,209,808 | 7,609,808 | 7,747,808 | 7,733,808 | 7,829,808 | 39,131,040
Total Estimated MCC Contribution ⁸ | 32,383,808 | 63,130,808 | 98,300,808 | 90,386,808 | 23,095,808 | 307,298,040
¹ MCC Disbursements in connection with this Activity shall be conditioned upon, among others, the completion, satisfactory to MCC, of the relevant studies in Policy Activity and incorporation of the recommendations into implementation plans as appropriate.
² After the first $1 million for the legal aid services sub-activity described in Section 2(c)(iv) of Schedule 3 to Annex I, any additional MCC Disbursement for this sub-activity shall be conditioned upon the Government obtaining matching funds to support the legal aid services program described in Section 2(c)(iv) of Schedule 3 of Annex I.
³ MCC Disbursements in connection with the new courthouses sub-activity described in Section 2(c)(v) of Schedule 3 to Annex I, shall be conditioned upon, among others, passage of the Procedural Code and certain other codes, which codes should contain adequate provisions in areas as may be specified by MCC in the relevant Supplemental Agreement (including with respect to the Procedural Code, provisions pertaining to the speed with which court cases are heard, and the means by which cases proceed through the courts).
⁴ MCC Disbursements in connection within the landside improvements sub-activity described in Section 2(c)(ii) of Schedule 4 of Annex I shall be conditioned upon, among others, the following: (i) renegotiation of existing concession and lease agreements on terms acceptable to MCC that provide for capital investment based upon the demand for Port services, (ii) a contract management program of the dry bulk conveyor system acceptable to MCC, (iii) the completion of Initial Technical Studies, (iv) a Government commitment of funding, or commitments obtained from another funding source (satisfactory to MCC) for amounts in excess of budgeted amount in the Detailed Financial Plan, including amounts that may be necessary for environmental and mitigation, and (v) subject to results, satisfactory to MCC, of feasibility studies and ESIA that includes an environmental audit and EMP, (vi) redesign of the fish inspection facility, (vii) completion of a World Bank privatization and competitiveness study, and (viii) selection of a construction management agent.
⁵ MCC Disbursement in connection with the waterside improvements sub-activity described in Section 2(d) of Schedule 4 of Annex I shall be conditioned upon, among others, the following: (i) satisfactory results of the Initial Technical Studies, (ii) demonstration, satisfactory to MCC, of improvements in customs and warehouse systems operations, (iii) implementation of recommendations of the independent financial auditor, (iv) obtaining environmental permits, (v) a Government commitment of funding, or commitments obtained from another funding source (satisfactory to MCC) for amounts in excess of budgeted amount in the Detailed Financial Plan, including amounts that may be necessary for environmental and mitigation, (vi) results, satisfactory to MCC, of feasibility studies and ESIA that includes an environmental audit and EMP and (vii) the completion of a long-term management services agreement for the operation of a Port sedimentation facility (or other harbor dredging program, as appropriate) on terms satisfactory to MCC.
⁶ The total administration budget as a percentage of the Program cost is equal to 5.61%.
⁷ The total implementation budget as a percentage of the Program cost is equal to 14.59%.
⁸ Total Government contribution of 5 billion CFA to be included in the annual national budget (1.25 billion CFA per year during the first four years of Compact) and to be allocated in a manner agreed upon by the Parties in writing.

Dated: August 15, 2006.
John C. Mantini,
Acting General Counsel, Millennium Challenge Corporation.

[FR Doc. E6-13697 Filed 8-18-06; 8:45 am]

BILLING CODE 9210-01-P